DEPARTMENT OF TRANSPORTATION

Maritime Administration

[Docket Number MARAD-2019-0109]

Notice of Intent; Notice of Public Meeting; Request for Comments; Port of Long Beach (POLB or Port) Pier B On-Dock Rail Support Facility Project

AGENCY: Maritime Administration, DOT.

ACTION: Notice.

SUMMARY: The U.S. Department of Transportation (DOT), Maritime Administration (MARAD) will prepare an environmental impact statement (EIS) for the Port of Long Beach (POLB or Port) Pier B On-Dock Rail Support Facility Project (Project) to support an application to U.S. Department of Transportation for Railroad Rehabilitation & Improvement Financing (RRIF) and potentially other federal funding programs. The Project is designed to address current traffic and cargo distribution bottlenecks into, out of, and within the POLB. The Project also includes consideration for anticipated future demand for cargo movement via on-dock rail; maximize on-dock intermodal operations to reach the long-term goal of 30 to 35 percent of cargo containers to be handled by on-dock rail; provide a facility that can accept and handle longer container trains; and provide a rail yard that is cost effective and fiscally prudent. The Port is applying to the RRIF Program, and potentially other federal funding programs, to support the Pier B On-Dock Rail Support Facility Project.

This Notice of Intent (NOI) requests public participation in the scoping process, provides information on how to participate, and announces an informational open house and public meeting in the City of Long Beach, California.

DATES: The public scoping comment period begins on the date this notice is published and ends 30 days later. There will be one public scoping meeting held in connection with the Pier B On-Dock Rail Support Facility Project. The meeting will be held in City of Long Beach, CA, at the Port of Long Beach Administration Building on July 10, 2019, from 6:00 p.m. to 8:00 p.m. The public meeting will be preceded by an informational open house from 4:00 p.m. to 6:00 p.m.

The public meeting may end later than the stated time, depending on the number of persons wishing to speak. Additionally, materials submitted in response to this request for comments on the Pier B On-Dock Rail Support Facility Project must reach the Federal Docket Management Facility no later than 30 days after this notice is published in the Federal Register.

ADDRESSES: The open house and public meeting in the City of Long Beach, California will be held at the Port of Long Beach Administration Building Board Room, 4801 Airport Plaza Drive, phone: (562) 283-7000, www.polb.com. Free parking is available at the venue.

The public docket for MARAD-2019-0109 is maintained by the U.S. Department of Transportation, Docket Management Facility, West Building, Ground Floor, Room W12-140, 1200 New Jersey Avenue SE, Washington, DC 20590.

FOR FURTHER INFORMATION CONTACT: Alan Finio, Office of Environment, at telephone number: 202-366-8024 or by email at Alan.Finio.ctr@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours. Additionally, if you go to the online docket and sign up for email alerts, you will be notified when comments or other Project documents are posted. Anonymous comments will be accepted.

SUPPLEMENTARY INFORMATION:

Public Meeting and Open House

We encourage you to attend the informational open house and public meeting to learn about, and comment on, the proposed Pier B On-Dock Rail Support Facility Project. You will have the opportunity to submit comments on the scope and significance of the issues related to the proposed project that should be addressed in the EIS.

Speaker registrations will be available at the door. Speakers at the public scoping meeting will be recognized in the following order: Elected officials, public agencies, individuals or groups in the sign-up order and then anyone else who wishes to speak.

In order to allow everyone a chance to speak at a public meeting, we may limit speaker time, extend the meeting hours, or both. You must identify yourself and any organization you represent by name. Your remarks will be recorded and/or transcribed for inclusion in the public docket.

You may submit written material at a public meeting, either in place of, or in addition to, speaking. Written material must include your name and address and will be included in the public docket (http://www.regulations.gov).

Our public meeting location is wheelchair-accessible and compliant with the Americans with Disabilities Act. If you plan to attend an open house or public meeting and need special assistance such as sign language interpretation, non-English language translator services or other reasonable accommodation, please notify MARAD (see FOR FURTHER INFORMATION CONTACT) at least 5 business days in advance of the public meeting. Include your contact information as well as information about your specific needs.

Request for Comments

We request public comment on this proposal. The comments may relate to, but are not limited to, the environmental impact of the proposed action. All comments will be accepted. The public meeting is not the only opportunity you have to comment on the Pier B On-Dock Rail Support Facility Project. In addition to, or in place of, attending a meeting, we encourage you to submit comments electronically through the Federal eRulemaking Portal at http://www.regulations.gov under docket number MARAD-2019-0109. If you submit your comments electronically, it is not necessary to also submit a hard copy. If you cannot submit using http://www.regulations.gov, please contact Alan Finio MARAD, as listed in the contacts section of this NOI (see FOR FURTHER INFORMATION CONTACT). For in-person access to the docket, go to Room W12-401 of the Department of Transportation, 1200 New Jersey Avenue SE, Washington, DC, between 9 a.m. and 5 p.m., Monday through Friday, except Federal Holidays, and ask for the MARAD docket number identified above. If you have questions on viewing the Docket, call Docket Operations, telephone: 202-366-9317 or 202-366-9826. Comments can also be faxed to the Federal Docket Management Facility at 202-493-2251. Please submit comments using only one method.

The comments and associated documentation, as well as the draft and final EISs (when published), are available for viewing at the Federal Docket Management System (FDMS) website: http://www.regulations.gov under docket number MARAD-2019-0109.

Public comment submissions should include the Docket number MARAD-2019-0109.

Faxed, mailed or hand delivered submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the FDMS website (http://www.regulations.gov) and will include any personal information you provide. Therefore, submitting this information to the docket makes it public. You may wish to read the Privacy and Use Notice that is available on the FDMS website and the Department of Transportation Privacy Act Notice that appeared in the Federal Register on April 11, 2000 (65 FR 19477) (see PRIVACY ACT). You may view docket submissions at the Federal Federal Docket Management Facility or electronically on the FDMS website.

Scoping Process

Public scoping is an early and open process for identifying and determining the scope of issues to be addressed in the EIS. Scoping begins with this notice, continues through the public comment period (see DATES), and ends when MARAD has completed the following actions:

• Invites the participation of Federal, state, and local agencies, any affected Indian tribe, the applicant, in this case POLB, and other interested persons;

• Determines the actions, alternatives and impacts described in 40 CFR 1508.25;

• Identifies and eliminates from detailed study, those issues that are not significant or that have been covered elsewhere;

• Identifies other relevant permitting, environmental review and consultation requirements;

• Indicates the relationship between timing of the environmental review and other aspects of the application process; and

• At its discretion, exercises the options provided in 40 CFR 1501.7(b).

Once the scoping process is complete, MARAD will prepare a draft EIS. When complete, a Federal Register notice announcing public availability of the Draft EIS will be published. If you want that notice to be sent to you, please contact the MARAD project manager identified in this NOI (see FOR FURTHER INFORMATION CONTACT). You will have an opportunity to review and comment on the Draft EIS. MARAD and other appropriate cooperating agencies will consider the received comments, make changes where appropriate, and then prepare the Final EIS. An announcement will be published when the Final EIS is available including instructions for how to review or obtain a copy of the Final EIS.

Summary of the Project

The City of Long Beach (COLB), acting by and through its Board of Harbor Commissioners (BHC), is proposing to construct the 12th Street Alternative in the POLB. The purposes of the proposed Project for the reconfiguration and expansion of the Pier B On-Dock Rail Support Facility are to: (a) Provide a sufficient facility to accommodate the expected demand of cargo to be moved via on-dock rail into the foreseeable future; (b) maximize on-dock intermodal operations to reach the long-term goal of 30 to 35 percent of cargo containers to be handled by on-dock rail; (c) provide a facility that can accept and handle longer container trains; and (d) provide a rail yard that is cost effective and fiscally prudent.

The proposed Project would be constructed in three phases over an estimated seven years and has an estimated opening year of 2025. Components of the proposed Project would include:

• Adding 31 yard tracks and five arrival/departure tracks, thereby expanding the yard from an existing 12 tracks (2 main line tracks, 10 yard tracks, and no arrival/departure tracks) to a total of 48 tracks (2 main tracks, 41 yard tracks, and five arrival/departure tracks);

• Providing for up to 10,000-foot long receiving/departure tracks;

• Widening the existing rail bridge over Dominguez Channel to accommodate one additional track; and

• Constructing an area for locomotive refueling within the yard.

Realignments and closures of some roadways would be required. Pier B Street would be realigned to the south, its geometrics would be improved, and two lanes of traffic in each direction would be provided.

• The realignment of Pier B Street would require the reconstruction of two intersections, at Anaheim Way and Edison Avenue.

• The existing at-grade 9th Street railroad grade crossing would be closed and the Shoemaker ramps removed.

• Pico Avenue would be realigned to the west beginning at the I-710 ramps south to approximately Pier D Street, allowing space for four additional tracks between Pico Avenue and the I-710 freeway.

• Areas needed for new rail tracks would require the closure of portions of 9th, 10th, 11th, and 12th streets and Edison, Jackson, Santa Fe, Canal, Caspian, Harbor, and Fashion avenues between Anaheim Street and Pier B Street, in the City of Long Beach.

• Portions of Farragut, Foote, Cushing, Macdonough, and Schley avenues would be closed in the vicinity of existing railroad right-of-way (ROW) in the City of Long Beach.

The proposed Project would be located in two POLB Planning Districts (the Northeast Harbor and North Harbor); the site also includes the Wilmington-Harbor City Community Plan Area of the City of Los Angeles. The Project site is generally situated between Dominguez Channel to the west, Interstate 710 (I-710) to the east, Ocean Boulevard to the south, and Anaheim Street to the north. The proposed Project area includes rail tracks that extend west beyond the Terminal Island Freeway (State Route 103) to just west of Dominguez Channel, where they connect with the Alameda Corridor, and also south as far as Ocean Boulevard. In addition to privately owned property, a variety of public agencies own property within the Project site and in its vicinity, including the POLB, COLB, City of Los Angeles, Port of Los Angeles, Union Pacific and Burlington Northern Santa Fe railroads; Alameda Corridor Transportation Authority; Los Angeles County Flood Control District; and Southern California Edison.

Privacy Act

In accordance with 5 U.S.C. 553(c), MARAD solicits comments from the public to better inform its rulemaking process. MARAD posts these comments, without edit, including any personal information the commenter provides to http://www.regulations.gov, as described in the syste of records notice (DOT/ALL-14 FDMS), which can be reviewed at http://www.dot.gov/privacy. If you wish to provide comments containing proprietary or confidential information, please contact the agency for alternate submission instructions.

(Authority: 42 U.S.C. 4321, et seq., 40 CFR parts 1500-1508, Department of Transportation Order 5610.1C, and MARAD Administrative Order 600-1)

Dated: June 21, 2019.
By Order of the Maritime Administrator.
T. Mitchell Hudson, Jr.,
Secretary, Maritime Administration.

[FR Doc. 2019-13549 Filed 6-25-19; 8:45 am]

BILLING CODE 4910-81-P